DEPARTMENT OF AGRICULTURE

Animal and Plant Health Inspection Service

9 CFR Parts 57 and 161

[Docket No. APHIS-2017-0002]

RIN 0579-AE39

National List of Reportable Animal Diseases

AGENCY: Animal and Plant Health Inspection Service, USDA.

ACTION: Proposed rule; reopening of comment period.

SUMMARY: We are reopening the comment period for our proposed rule that would amend the animal disease regulations to provide for a National List of Reportable Animal Diseases, along with reporting responsibilities for animal health professionals that encounter or suspect cases of communicable diseases and disease agents. This action will allow interested persons additional time to prepare and submit comments.

DATES: The comment period for the proposed rule published on April 2, 2020 (85 FR 18471) is reopened. We will consider all comments that we receive on or before August 21, 2020.

ADDRESSES: You may submit comments by either of the following methods:

• Federal eRulemaking Portal: Go to http://www.regulations.gov/#!docketDetail;D=APHIS-2017-0002.

• Postal Mail/Commercial Delivery: Send your comment to Docket No. APHIS-2017-0002, Regulatory Analysis and Development, PPD, APHIS, Station 3A-03.8, 4700 River Road Unit 118, Riverdale, MD 20737-1238.

Supporting documents and any comments we receive on this docket may be viewed at http://www.regulations.gov/#!docketDetail;D=APHIS-2017-0002 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Jason Baldwin, Center for Epidemiology and Animal Health, 2150 Centre Ave. Bldg. B, Fort Collins CO 80526; (970) 494-7225.

SUPPLEMENTARY INFORMATION: On April 2, 2020, we published in the Federal Register (85 FR 18471-18477, Docket No. APHIS-2017-0002) a proposal to amend the animal disease regulations to provide for a National List of Reportable Animal Diseases (NLRAD), along with reporting responsibilities for animal health professionals that encounter or suspect cases of communicable animal diseases and disease agents.

Comments on the proposed rule were required to be received on or before June 1, 2020. We are reopening the comment period on Docket No. APHIS-2017-0002. The comment period will now close on August 21, 2020. This action will allow interested persons additional time to prepare and submit comments. We will also consider all comments received between June 2, 2020 (the day after the close of the original comment period) and the date of this notice.

Authority: 7 U.S.C. 8301-8317; 15 U.S.C. 1828; 7 CFR 2.22, 2.80, and 371.4.

Done in Washington, DC, this 4th day of August 2020.
Mark Davidson,
Acting Administrator, Animal and Plant Health Inspection Service.

[FR Doc. 2020-17339 Filed 8-17-20; 8:45 am]

BILLING CODE 3410-34-P